DEPARTMENT OF THE INTERIOR

Bureau of Land Management

[LLIDB00100 LF1000000.HT0000 LXSS020D0000 4500034792]

Notice of Temporary Restriction Order for Skinny Dipper Hot Springs, Boise County, ID

AGENCY: Bureau of Land Management, Interior.

ACTION: Notice of Temporary Restriction.

SUMMARY: This serves as notice of a sunset-to-sunrise recreational use restriction of Skinny Dipper Hot Springs is in effect on public lands administered by the Four Rivers Field Office, Bureau of Land Management.

DATES: The restriction will be in effect on the date this notice is published in the Federal Register and will remain in effect for two years or until rescinded or modified by the authorized officer or designated Federal officer.

FOR FURTHER INFORMATION CONTACT: Terry Humphrey, Four Rivers Field Manager, at 3948 Development Avenue, Boise, Idaho 83705, via email at terry_humphrey@blm.gov, or phone 208-384-3430. Persons who use a telecommunications device for the deaf (TDD) may call the Federal Information Relay Service (FIRS) at 1-800-877-8339 to contact the above individuals during normal business hours. The FIRS is available 24 hours a day, seven days a week, to leave a message or question with the above individuals. You will receive a reply during normal hours.

SUPPLEMENTARY INFORMATION: The parking area adjacent to the Banks-Lowman Highway near mile post 4, the trail from the parking area to Skinny Dipper Hot Springs, and the public lands in Lot 3, Section 25, T. 9 N., R.3 E., Boise Meridian, Boise County, Idaho, are closed from sunset to sunrise each day. The restriction will help provide for public safety, which is currently at high risk. Between 2004 and present there have been at least two fatalities, several assaults, and numerous injuries associated with nighttime use of the area. Due to its location, public safety officers and the public do not have cellular phone or radio access, which adds to concerns regarding night-time use. In addition, bio-hazardous materials (e.g., discarded hypodermic needles, human feces) are commonly found in the area. The hot springs flow into the South Fork Payette River, which creates the potential for environmental contamination. Many secondary effects associated with the primary activities are causing direct resource harm. These impacts include trash (glass, cans, food), construction of unauthorized structures, and damage/removal of vegetation.

The BLM will post signs at main entry points to the closed area and/or other locations on-site. This restriction will be posted in the Four Rivers Field Office, Boise District BLM. Maps of the affected area and other documents associated with this restriction are available at 3948 Development Avenue, Boise, Idaho 83705. Under the authority of Section 303(a) of the Federal Land Policy and Management Act of 1976 (43 U.S.C. 1733(a)), 43 CFR 8360.0-7, and 43 CFR 8364.1, the Bureau of Land Management will enforce the following rule within the Skinny Dipper Hot Springs use restriction:

You must not be in the closed area between sunset and sunrise.

Exemptions: The following persons are exempt from this order: Federal, State, and local officers and employees in the performance of their official duties; members of organized rescue or firefighting forces in the performance of their official duties; and persons with written authorization from the Bureau of Land Management.

Penalties: Any person who violates the above rule may be tried before a United States Magistrate and fined no more than $1,000, imprisoned for no more than 12 months, or both. Violators may also be subject to the enhanced fines provided for in 18 U.S.C. 3571.

Authority: 43 CFR 8364.1.

Steven A. Ellis,
Idaho State Director.

[FR Doc. 2012-20893 Filed 8-23-12; 8:45 am]

BILLING CODE 4310-GG-P